DEPARTMENT OF TRANSPORTATION

Federal Aviation Administration

14 CFR Part 39

[Docket No. FAA-2018-0071; Product Identifier 2017-NM-063-AD]

RIN 2120-AA64

Airworthiness Directives; Airbus Airplanes

AGENCY: Federal Aviation Administration (FAA), DOT.

ACTION: Notice of proposed rulemaking (NPRM).

SUMMARY: We propose to supersede Airworthiness Directive (AD) 2016-23-01, which applies to all Airbus Model A310 series airplanes. AD 2016-23-01 requires repetitive detailed inspections for cracking around the fastener holes in certain areas of the wing top skin panels, supplemental repetitive ultrasonic inspections for cracking around the fastener holes in certain other areas of the wing top skin panels, and repair if necessary. Since we issued AD 2016-23-01, an evaluation done by the design approval holder (DAH) indicates that the wing top skin panel attachment holes at a certain area are also subject to widespread fatigue damage (WFD). This proposed AD would add an inspection and modification of the attachment holes of the wing top skin panels at a certain area. This proposed AD also includes terminating action for certain inspections. We are proposing this AD to address the unsafe condition on these products.

DATES: We must receive comments on this proposed AD by March 26, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus SAS, Airworthiness Office—EAW, 1 Rond Point Maurice Bellonte, 31707 Blagnac Cedex, France; telephone: +33 5 61 93 36 96; fax: +33 5 61 93 44 51; email: account.airworth-eas@airbus.com; internet: http://www.airbus.com. You may view this referenced service information at the FAA, Transport Standards Branch, 1601 Lind Avenue SW, Renton, WA. For information on the availability of this material at the FAA, call 425-227-1221.

Examining the AD Docket

You may examine the AD docket on the internet at http://www.regulations.gov by searching for and locating Docket No. FAA-2018-0071; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Dan Rodina, Aerospace Engineer, International Section, Transport Standards Branch, FAA, 1601 Lind Avenue SW, Renton, WA 98057-3356; telephone: 425-227-2125; fax: 425-227-1149.

SUPPLEMENTARY INFORMATION:

Comments Invited

We invite you to send any written relevant data, views, or arguments about this proposed AD. Send your comments to an address listed under the ADDRESSES section. Include “Docket No. FAA-2018-0071; Product Identifier 2017-NM-063-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued AD 2016-23-01, Amendment 39-18708 (81 FR 78899, November 10, 2016) (“AD 2016-23-01”), for all Airbus Model A310 series airplanes. AD 2016-23-01 was prompted by development of an ultrasonic inspection program to allow for earlier crack detection and extended repetitive inspection intervals. AD 2016-23-01 requires repetitive detailed inspections for cracking around the fastener holes in certain wing top skin panels between the front and rear spars on the left- and right-hand sides of the fuselage, supplemental repetitive ultrasonic inspections for cracking around the fastener holes in wing top skin panels 1 and 2 at ribs 2 and 3, and repair if necessary. We issued AD 2016-23-01 to detect and correct fatigue cracking around the fastener holes, which could result in reduced structural integrity of the airplane.

Since we issued AD 2016-23-01, WFD analysis identified structural modification points for certain fastener holes located at each attachment from stringer (STG) 2 through STG10 at ribs 2 and 3 on both wings. Inspections and modifications were developed to reset the fatigue life of the attachment holes at the top skin attachment to rib 2 and rib 3 up to the limit of validity (LOV).

Fatigue damage can occur locally, in small areas or structural design details, or globally, in widespread areas. Multiple-site damage is widespread damage that occurs in a large structural element such as a single rivet line of a lap splice joining two large skin panels. Widespread damage can also occur in multiple elements such as adjacent frames or stringers. Multiple-site damage and multiple-element damage cracks are typically too small initially to be reliably detected with normal inspection methods. Without intervention, these cracks will grow, and eventually compromise the structural integrity of the airplane. This condition is known as WFD. It is associated with general degradation of large areas of structure with similar structural details and stress levels. As an airplane ages, WFD will likely occur, and will certainly occur if the airplane is operated long enough without any intervention.

The FAA's WFD final rule (75 FR 69746, November 15, 2010) became effective on January 14, 2011. The WFD rule requires certain actions to prevent structural failure due to WFD throughout the operational life of certain existing transport category airplanes and all of these airplanes that will be certificated in the future. For existing and future airplanes subject to the WFD rule, the rule requires that DAHs establish an LOV of the engineering data that support the structural maintenance program. Operators affected by the WFD rule may not fly an airplane beyond its LOV, unless an extended LOV is approved.

The WFD rule (75 FR 69746, November 15, 2010) does not require identifying and developing maintenance actions if the DAHs can show that such actions are not necessary to prevent WFD before the airplane reaches the LOV. Many LOVs, however, do depend on accomplishment of future maintenance actions. As stated in the WFD rule, any maintenance actions necessary to reach the LOV will be mandated by airworthiness directives through separate rulemaking actions.

In the context of WFD, this action is necessary to enable DAHs to propose LOVs that allow operators the longest operational lives for their airplanes, and still ensure that WFD will not occur. This approach allows for an implementation strategy that provides flexibility to DAHs in determining the timing of service information development (with FAA approval), while providing operators with certainty regarding the LOV applicable to their airplanes.

Actions Since AD 2016-23-01 Was Issued

Since we issued AD 2016-23-01, we have received a report that an evaluation done by the DAH indicates that the wing top skin panel attachment holes at ribs 2 and 3 are also subject to WFD, and an analysis identified structural modification points for certain fastener holes located at each attachment from STG2 through STG10 at ribs 2 and 3 on both wings.

The European Aviation Safety Agency (EASA), which is the Technical Agent for the Member States of the European Union, has issued EASA AD 2017-0081, dated May 8, 2017 (referred to after this as the Mandatory Continuing Airworthiness Information, or “the MCAI”), to correct an unsafe condition for all Airbus Model A310 series airplanes. The MCAI states:

Following scheduled maintenance, cracks were found around the wing top skin panels fastener holes at Rib 2, between Stringer (STG) 2 and STG14.

This condition, if not detected and corrected, could reduce the structural integrity of the aeroplane.

To address this issue, Airbus developed an inspection programme, and published Service Bulletin (SB) A310-57-2096, providing instructions for repetitive detailed inspections (DET) to ensure that any visible cracks in the wing top skin panels 1 and 2 along Rib 2 are detected on time and repaired appropriately. Consequently, EASA issued AD 2008-0211 [which corresponds to FAA AD 2010-04-03] to require implementation of that inspection programme.

After that [EASA] AD was issued, Airbus improved the inspection programme, revising SB A310-57-2096 accordingly, to include a special detailed inspection (SDI), using an ultrasonic method, to allow earlier crack detection, to subsequently reduce the scope of potential repair action, and to extend the intervals of the repetitive inspections.

Consequently, EASA issued AD 2014-0200 (later revised), retaining the requirements of EASA AD 2008-0211, which was superseded, and required supplementary repetitive SDI [for cracking] of the wing top skin panel 1 and 2 between STG2 and STG10 at Rib 2 [and repair if needed], as described in Airbus SB A310-57-2096 Revision 02.

Since EASA AD 2014-0200R1 was issued, a Widespread Fatigue Damage (WFD) analysis concluded that the inspection programme had to be extended to include the wing top skin panels at Rib 3 attachments, and Airbus issued SB A310-57-2096 Revision 03 accordingly, to provide the necessary instructions. Consequently, EASA issued [EASA] AD 2016-0005 [which corresponds to FAA AD 2016-23-01], retaining the requirements of EASA AD 2014-0200R1, which was superseded, and extending the inspection area to includeRib 3.

In addition to changes to the inspected area, WFD analysis identified structural modification points for certain fastener holes, located at each attachment from STG2 to STG10, at Ribs 2 and 3 on both wings.

Airbus developed modification (mod) 13785 and mod 13786, consisting of an SDI, followed by an oversize of the defined holes on Ribs 2 and 3 on both wings. Airbus issued SB A310-57-2106 and SB A310-57-2107 to provide in-service modification instructions for top skin attachments to Rib 2 and Rib 3 respectively. Accomplishment of these modifications at the specified time will reset the fatigue life of the attachment holes at the top skin attachment to Rib 2 and Rib 3 to the Limit of Validity (LOV). Airbus issued inspection SB A310-57-2096 Revision 04 to account for the inspection requirements post-modification.

For the reasons describe above, this [EASA] AD retains the requirements of EASA AD 2016-0005, which is superseded, requires modifications to the top skin attachment holes at Rib 2 and Rib 3, and defines the inspection requirements for Rib 2 and Rib 3 after modification.

Modification of the fastener holes at top skin ribs 2 and 3 constitutes terminating action for certain repetitive special detailed inspections. You may examine the MCAI in the AD docket on the internet at http://www.regulations.gov by searching for and locating Docket No. FAA-2018-0071.

Related Service Information Under 1 CFR Part 51

Airbus has issued the following service information.

• Airbus Service Bulletin A310-57-2096, Revision 04, dated December 5, 2016. This service information describes procedures for detailed and ultrasonic inspections for cracking around the fastener holes of wing top skin panels 1 and 2, at ribs 2 and 3, on the left- and right-hand sides of the fuselage.

• Airbus Service Bulletin A310-57-2106, dated November 14, 2016. This service information describes procedures for a special detailed inspection and modification of the fastener holes of wing top skin panels 1 and 2, at rib 2.

• Airbus Service Bulletin A310-57-2107, dated November 14, 2016. This service information describes procedures for a special detailed inspection and modification of the fastener holes of wing top skin panels 1 and 2, at rib 3.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Explanation of Compliance Time

The compliance time for the modification specified in this proposed AD for addressing WFD was established to ensure that discrepant structure is modified before WFD develops in airplanes. Standard inspection techniques cannot be relied on to detect WFD before it becomes a hazard to flight. We will not grant any extensions of the compliance time to complete any AD-mandated service bulletin related to WFD without extensive new data that would substantiate and clearly warrant such an extension.

Costs of Compliance

We estimate that this proposed AD affects 8 airplanes of U.S. registry.

The actions required by AD 2016-23-01, and retained in this proposed AD, take about 8 work-hours per product, at an average labor rate of $85 per work-hour. Based on these figures, the estimated cost of the actions that are required by AD 2016-23-01 on U.S. operators to be $5,440, or $680 per product.

We also estimate that it would take about 95 work-hours per product to comply with the basic requirements of this proposed AD. Required parts would cost about $10,200 per product. The average labor rate is $85 per work-hour. Based on these figures, we estimate the cost of this proposed AD on U.S. operators to be $146,200, or $18,275 per product.

In addition, we estimate that any necessary modification would take about 40 work-hours and require parts costing $10,000, for a cost of $13,400 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-23-01, Amendment 39-18708 (81 FR 78899, November 10, 2016), and adding the following new AD:

Airbus: Docket No. FAA-2018-0071; Product Identifier 2017-NM-063-AD.

(a) Comments Due Date

We must receive comments by March 26, 2018.

(b) Affected ADs

This AD replaces AD 2016-23-01, Amendment 39-18708 (81 FR 78899, November 10, 2016) (“AD 2016-23-01”).

(c) Applicability

This AD applies to all Airbus Model A310-203, -204, -221, -222, -304, -322, -324, and -325 airplanes, certificated in any category, all manufacturer serial numbers.

(d) Subject

Air Transport Association (ATA) of America Code 57, Wings.

(e) Reason

This AD was prompted by an evaluation done by the design approval holder (DAH) indicating that the wing top skin panel attachment holes at ribs 2 and 3 are also subject to widespread fatigue damage (WFD). We are issuing this AD to detect and correct fatigue cracking around the fastener holes, which could result in reduced structural integrity of the airplane.

(f) Compliance

Comply with this AD within the compliance times specified, unless already done.

(g) Retained Repetitive Inspections, With Revised Service Information

This paragraph restates the requirements of paragraph (g) of AD 2016-23-01, with revised service information. Except as required by paragraph (i) of this AD: Within the initial compliance time and thereafter at the repetitive intervals specified in paragraphs (h)(1) through (h)(3) of this AD, as applicable, accomplish the actions specified in paragraphs (g)(1) and (g)(2) of this AD concurrently and in sequence, in accordance with the Accomplishment Instructions of Airbus Service Bulletin A310-57-2096, Revision 03, dated June 30, 2015, or Revision 04, dated December 5, 2016; except as provided by paragraph (j) of this AD. As of the effective date of this AD, use only Airbus Service Bulletin A310-57-2096, Revision 04, dated December 5, 2016, to accomplish the required actions.

(1) Accomplish a detailed inspection for cracking around the fastener holes in the wing top skin panels 1 and 2, along ribs 2 and 3, between the front and rear spars on the left- and right-hand sides of the fuselage.

(2) Accomplish an ultrasonic inspection for cracking around the fastener holes in the wing top skin panels 1 and 2, along ribs 2 and 3, between stringer (STG) 2 and STG10 on the left- and right-hand sides of the fuselage.

(h) Retained Compliance Times for Airplanes Not Previously Inspected, With No Changes

This paragraph restates the requirements of paragraph (h) of AD 2016-23-01, with no changes.

(1) For Model A310-203, -204, -221, and -222 airplanes: Do the actions required by paragraphs (g)(1) and (g)(2) of this AD at the later of the times specified in paragraphs (h)(1)(i) and (h)(1)(ii) of this AD. Repeat the inspections specified in paragraphs (g)(1) and (g)(2) of this AD thereafter at intervals not to exceed 2,000 flight cycles or 4,100 flight hours, whichever occurs first.

(i) Prior to the accumulation of 18,700 flight cycles or 37,400 flight hours since first flight of the airplane, whichever occurs first.

(ii) Within 30 days after December 15, 2016 (the effective date of AD 2016-23-01).

(2) For Model A310-304, -322, -324, and -325 airplanes having an average flight time (AFT) of less than 4 hours: Do the actions required by paragraphs (g)(1) and (g)(2) of this AD at the later of the times specified in paragraphs (h)(2)(i) and (h)(2)(ii) of this AD. Repeat the inspections specified in paragraphs (g)(1) and (g)(2) of this AD thereafter at intervals not to exceed 2,000 flight cycles or 5,600 flight hours, whichever occurs first.

(i) Prior to the accumulation of 17,300 flight cycles or 48,400 flight hours since first flight of the airplane, whichever occurs first.

(ii) Within 30 days after December 15, 2016 (the effective date of AD 2016-23-01).

(3) For Model A310-304, -322, -324, and -325 airplanes having an AFT of equal to or more than 4 hours: Do the actions required by paragraphs (g)(1) and (g)(2) of this AD at the later of the times specified in paragraphs (h)(3)(i) and (h)(3)(ii) of this AD. Repeat the inspections specified in paragraphs (g)(1) and (g)(2) of this AD thereafter at intervals not to exceed 1,500 flight cycles or 7,500 flight hours, whichever occurs first.

(i) Prior to the accumulation of 12,800 flight cycles or 64,300 flight hours since first flight of the airplane, whichever occurs first.

(ii) Within 30 days after December 15, 2016 (the effective date of AD 2016-23-01).

(i) Retained Compliance Times for Airplanes Previously Inspected, With Revised Service Information

This paragraph restates the requirements of paragraph (i) of AD 2016-23-01, with revised service information.

For airplanes previously inspected before December 15, 2016 (the effective date of AD 2016-23-01), using Airbus Service Bulletin A310-57-2096, dated May 6, 2008; Airbus Service Bulletin A310-57-2096, Revision 01, dated August 5, 2010; or Airbus Service Bulletin A310-57-2096, Revision 02, dated March 5, 2014: At the applicable compliance times specified in paragraphs (i)(1), (i)(2), and (i)(3) of this AD, accomplish the actions specified in paragraphs (g)(1) and (g)(2) concurrently and in sequence, in accordance with the Accomplishment Instructions of Airbus Service Bulletin A310-57-2096, Revision 03, dated June 30, 2015, or Revision 04, dated December 5, 2016. As of the effective date of this AD, use only Airbus Service Bulletin A310-57-2096, Revision 04, dated December 5, 2016, to accomplish the required actions. Repeat the inspections specified in paragraphs (g)(1) and (g)(2) of this AD thereafter at the repetitive intervals specified in paragraphs (h)(1), (h)(2), and (h)(3) of this AD, as applicable.

(1) For Model A310-203, -204, -221, and -222 airplanes: Do the actions required by paragraphs (g)(1) and (g)(2) of this AD within 3,500 flight hours or 1,700 flight cycles, whichever occurs first since the most recent inspection.

(2) For Model A310-304, -322, -324, and -325 airplanes having an AFT of less than 4 hours: Do the actions required by paragraphs (g)(1) and (g)(2) of this AD within 4,600 flight hours or 1,600 flight cycles, whichever occurs first since the most recent inspection.

(3) For Model A310-304, -322, -324, and -325 airplanes having an AFT of equal to or more than 4 hours: Do the actions required by paragraphs (g)(1) and (g)(2) of this AD within 6,100 flight hours or 1,200 flight cycles, whichever occurs first since the most recent inspection.

(j) Retained Compliance Times if No Ultrasonic Equipment Is Available, With Revised Service Information

This paragraph restates the requirements of paragraph (j) of AD 2016-23-01, with revised service information. If no ultrasonic equipment is available for the initial or second inspection required by paragraph (g) or (h) of this AD, accomplish the detailed inspection specified in paragraph (g)(1) of this AD within the applicable compliance times specified in paragraphs (j)(1) and (j)(2) of this AD. After accomplishing the detailed inspection, do the inspections specified in paragraphs (g)(1) and (g)(2) of this AD at the applicable compliance times specified by paragraphs (i)(1), (i)(2), and (i)(3) of this AD. Subsequently, repeat the inspections specified in paragraphs (g)(1) and (g)(2) of this AD thereafter at the applicable repetitive intervals specified in paragraphs (h)(1), (h)(2), and (h)(3) of this AD.

(1) For airplanes not previously inspected before December 15, 2016 (the effective date of AD 2016-23-01), using the service information identified in paragraph (j)(2)(i), (j)(2)(ii), (j)(2)(iii), or (j)(2)(iv) of this AD: Do the actions required by paragraph (g)(1) of this AD within the initial compliance time specified by paragraphs (h)(1), (h)(2), and (h)(3) of this AD, as applicable.

(2) For airplanes previously inspected before December 15, 2016 (the effective date of AD 2016-23-01), using the service information identified in paragraph (j)(2)(i), (j)(2)(ii), (j)(2)(iii), or (j)(2)(iv) of this AD: Do the actions required by paragraph (g)(1) of this AD within the applicable compliance times specified in paragraphs (i)(1), (i)(2), and (i)(3) of this AD.

(i) Airbus Service Bulletin A310-57-2096, dated May 6, 2008.

(ii) Airbus Service Bulletin A310-57-2096, Revision 01, dated August 5, 2010.

(iii) Airbus Service Bulletin A310-57-2096, Revision 02, dated March 5, 2014.

(iv) Airbus Service Bulletin A310-57-2096, Revision 03, dated June 30, 2015.

(k) Retained Repair of Cracking, With No Changes

This paragraph restates the requirements of paragraph (k) of AD 2016-23-01, with no changes. If any cracking is found during any inspection required by paragraph (g), (h), (i), or (j) of this AD, before further flight, repair the cracking using a method approved by the Manager, International Section, Transport Standards Branch, FAA; or the European Aviation Safety Agency (EASA); or Airbus's EASA Design Organization Approval (DOA). If approved by the DOA, the approval must include the DOA-authorized signature. Accomplishing the repair specified in this paragraph terminates the repetitive inspections required by paragraph (g), (h), (i), or (j) of this AD, as applicable, for the repaired area only.

(l) Retained Definition of AFT, With No Changes

This paragraph restates the requirements of paragraph (l) of AD 2016-23-01, with no changes. For the purposes of this AD, the AFT should be established as specified in paragraphs (l)(1), (l)(2), and (l)(3) of this AD for the determination of the compliance times.

(1) The inspection threshold is defined as the total flight hours accumulated (counted from take-off to touch-down), divided by the total number of flight cycles accumulated at the effective date of this AD.

(2) The initial inspection interval is defined as the total flight hours accumulated divided by the total number of flight cycles accumulated at the time of the initial inspection threshold.

(3) The second inspection interval is defined as the total flight hours accumulated divided by the total number of flight cycles accumulated between the initial and second inspection threshold. For all inspection intervals onwards, the average flight time is the flight hours divided by the flight cycles accumulated between the last two inspections.

(m) New Requirements of This AD: Rib 2 Inspection and Modification

At the compliance time specified in paragraph (n) of this AD, as applicable, accomplish the actions specified in paragraphs (m)(1) and (m)(2) of this AD concurrently and in sequence, in accordance with the Accomplishment Instructions of Airbus Service Bulletin A310-57-2106, dated November 14, 2016.

(1) Accomplish a special detailed inspection to determine the diameter of the fastener holes in the wing top skin panels 1 and 2, at rib 2 of both wings.

(2) Modify the fastener holes.

(n) New Compliance Times for Rib 2 Inspection and Modification

(1) For Model A310-203, -204, -221, and -222 airplanes: Do the actions required by paragraphs (m)(1) and (m)(2) of this AD at the later of the times specified in paragraphs (n)(1)(i) and (n)(1)(ii) of this AD.

(i) Prior to the accumulation of 40,000 flight cycles or 93,300 flight hours since first flight of the airplane, whichever occurs first.

(ii) Within 30 days after the effective date of this AD.

(2) For Model A310-304, -322, -324, and -325 airplanes having an average flight time (AFT) of less than 4 hours: Do the actions required by paragraphs (m)(1) and (m)(2) of this AD at the later of the times specified in paragraphs (n)(2)(i) and (n)(2)(ii) of this AD.

(i) Prior to the accumulation of 40,000 flight cycles or 116,000 flight hours since first flight of the airplane, whichever occurs first.

(ii) Within 30 days after the effective date of this AD.

(3) For Model A310-304, -322, -324, and -325 airplanes having an AFT of 4 hours or more: Do the actions required by paragraphs (m)(1) and (m)(2) of this AD at the later of the times specified in paragraphs (n)(3)(i) and (n)(3)(ii) of this AD.

(i) Prior to the accumulation of 30,000 flight cycles or 150,000 flight hours since first flight of the airplane, whichever occurs first.

(ii) Within 30 days after the effective date of this AD.

(o) New Requirements of This AD: Rib 3 Inspection and Modification

At the compliance time specified in paragraph (p) of this AD, as applicable, accomplish the actions specified in paragraphs (o)(1) and (o)(2) of this AD concurrently and in sequence, in accordance with the Accomplishment Instructions of Airbus Service Bulletin A310-57-2107, dated November 14, 2016.

(1) Accomplish a special detailed inspection to determine the diameter of the fastener holes in the wing top skin panels 1 and 2, at rib 3 of both wings.

(2) Modify the fastener holes.

(p) New Compliance Times for Rib 3 Inspection and Modification

(1) For Model A310-203, -204, -221, and -222 airplanes: Do the actions required by paragraphs (o)(1) and (o)(2) of this AD at the later of the times specified in paragraphs (p)(1)(i) and (p)(1)(ii) of this AD.

(i) Prior to the accumulation of 46,400 flight cycles or 92,900 flight hours since first flight of the airplane, whichever occurs first.

(ii) Within 30 days after the effective date of this AD.

(2) For Model A310-304, -322, -324, and -325 airplanes having an average flight time (AFT) of less than 4 hours: Do the actions required by paragraphs (o)(1) and (o)(2) of this AD at the later of the times specified in paragraphs (p)(2)(i) and (p)(2)(ii) of this AD.

(i) Prior to the accumulation of 45,400 flight cycles or 127,300 flight hours since first flight of the airplane, whichever occurs first.

(ii) Within 30 days after the effective date of this AD.

(3) For Model A310-304, -322, -324, and -325 airplanes having an AFT of 4 hours or more: Do the actions required by paragraphs (o)(1) and (o)(2) of this AD at the later of the times specified in paragraphs (p)(3)(i) and (p)(3)(ii) of this AD.

(i) Prior to the accumulation of 33,800 flight cycles or 169,000 flight hours since first flight of the airplane, whichever occurs first.

(ii) Within 30 days after the effective date of this AD.

(q) New Corrective Actions

If any cracking is found during any inspection required by paragraph (m), (n), (o), or (p) of this AD, before further flight, repair the cracking using a method approved by the Manager, International Section, Transport Standards Branch, FAA; or EASA; or Airbus's EASA DOA. If approved by the DOA, the approval must include the DOA-authorized signature. Accomplishing the repair specified in this paragraph terminates the repetitive inspections required by paragraph (g), (h), (i), or (j) of this AD, as applicable, for the repaired area only.

(r) New Terminating Actions

(1) Accomplishment of the modification specified in paragraph (m) of this AD constitutes terminating action for the repetitive special detailed inspections required by paragraph (g)(2) of this AD for the modified fastener holes at top skin rib 2 for that airplane. After modification, the un-modified fastener holes at top skin rib 2 between the front and rear spars remain subject to the repetitive inspections required by paragraph (g)(1) of this AD.

(2) Accomplishment of the modification specified in paragraph (o) of this AD constitutes terminating action for the repetitive special detailed inspections required by paragraph (g)(2) of this AD for the modified fastener holes at top skin rib 3 for that airplane. After modification, the un-modified fastener holes at top skin rib 3 between the front and rear spars remain subject to the repetitive inspection required by paragraph (g)(1) of this AD.

(s) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Branch, send it to the attention of the person identified in paragraph (t)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(t) Related Information

(1) Refer to Mandatory Continuing Airworthiness Information (MCAI) EASA AD 2017-0081, dated May 8, 2017, for related information. This MCAI may be found in the AD docket on the internet at http://www.regulations.gov by searching for and locating Docket No. FAA-2018-0071.

(2) For more information about this AD, contact Dan Rodina, Aerospace Engineer, International Section, Transport Standards Branch, FAA, 1601 Lind Avenue SW, Renton, WA 98057-3356; telephone: 425-227-2125; fax: 425-227-1149.

(3) For service information identified in this AD, contact Airbus SAS, Airworthiness Office—EAW, 1 Rond Point Maurice Bellonte, 31707 Blagnac Cedex, France; telephone: +33 5 61 93 36 96; fax: +33 5 61 93 44 51; email: account.airworth-eas@airbus.com; internet: http://www.airbus.com. You may view this service information at the FAA, Transport Standards Branch, 1601 Lind Avenue SW, Renton, WA. For information on the availability of this material at the FAA, call 425-227-1221.

Issued in Renton, Washington, on January 25, 2018.
Michael Kaszycki,
Acting Director, System Oversight Division, Aircraft Certification Service.

[FR Doc. 2018-02084 Filed 2-7-18; 8:45 am]

BILLING CODE 4910-13-P